TENNESSEE VALLEY AUTHORITY

Sunshine Act Meeting

Agency Holding the Meeting: Tennessee Valley Authority (Meeting No. 1561).

Time and Date: 9 a.m. (EDT), September 28, 2005; TVA West Tower Auditorium, 400 West Summit Hill Drive, Knoxville, Tennessee.

Status: Open.

Agenda: Approval of minutes of meeting held on July 22, 2005.

New Business

E—Real Property Transactions

E1. Sale at public auction of approximately 578 acres of TVA land on Nickajack Reservoir in Marion County, Tennessee, Tract No. XNJR-21.

E2. Sale of a permanent easement to Dennis Patel for an access road to a new Hampton Inn, affecting approximately .3 acre of TVA land on Guntersville Reservoir in Marion County, Tennessee, Tract No. XGR-763AR.

E3. Grant of a 30-year term public recreation easement, with conditional options to renew for additional 30-year terms, affecting approximately 20.3 acres of TVA land on Douglas Reservoir in Jefferson County, Tennessee, Tract No. XTDR-36RE.

E4. Modification of certain deed restrictions affecting approximately 93 acres of former TVA land on Chickamauga Reservoir in Hamilton County, Tennessee, Tract No. XCR-53, S.1X, to allow residential development on 18 acres of said tract and prohibit development (other than roads and infrastructure) upon the remaining 75 acres of the tract.

E5. Modification of certain deed restrictions affecting approximately 16.8 acres of former TVA land on Melton Hill Reservoir in Anderson County, Tennessee, Tract No. XMHR-49, S.1X, to allow the city of Clinton, Tennessee, to develop a sports complex on the property and approval of a land use allocation change to the Melton Hill Reservoir Land Management Plan to reallocate a .9-acre portion of this tract from industrial development to recreational development.

F—Other

F1. Approval to file condemnation cases to acquire easements and rights-of-way for transmission line projects affecting the Richard City—Scottsboro Transmission Line in Jackson County, Alabama.

C—Energy

C1. Delegation of authority to the Executive Vice President, Fossil Power Group, to enter into a term contract with Canal Barge Company Inc. for barge transportation of coal to Colbert and Johnsonville Fossil Plants.

Information Items

1. Approval of Board member participation in Board meetings by telephone or other means due to incapacity for the period beginning September 12, 2005, and extending through December 31, 2005.

2. Approval of a plan to match cash or check contributions by employees or retirees through the CFC to Hurricane Katrina relief organizations for the period September 2-16, 2005.

3. Approval of temporary policy revisions related to distributors who have given notice of contract termination.

4. Approval of changes to the risk management structure at TVA.

5. Approval of delegation of authority to the Director, TVA Police, to designate TVA employees as law enforcement officers for an interim period commencing on August 22, 2005, and ending December 31, 2005.

6. Approval of a contract with Blue Cross Blue Shield of Tennessee for dental benefit services.

7. Approval of the sale at public auction of the Aquatic Biology Lab Buildings, affecting approximately 3.2 acres, Tract No. XNR-911, and an associated utility easement, Tract No. XNR-912E, in Norris, Tennessee.

8. Approval to enter into a contract with Staples Business Advantage for office supplies, equipment, and forms management services.

9. Approval of the sale at public auction of leasehold interests to the Public Power Institute building and of approximately 1.9 acres of associated land on TVA's Muscle Shoals Reservation in Colbert County, Alabama, Tract No. X2NPT-21.

10. Approval of modifications to grants of easements affecting 52 acres of land on the Wilson Dam Reservation in Lauderdale County, Alabama, to facilitate the construction and operation of a public park and an adjacent hotel/convention center complex, Tract Nos. XWDNC-1E, XTWDNC-1RE, and XWDR-9E.

11. Approval of abandonment of certain transmission line easement rights affecting approximately 1.43 acres, Tract Nos. BWG-5 and BWG-6, contingent upon Blue Ridge Mountain EMC providing transmission line easement rights satisfactory to TVA affecting approximately 2.07 acres of land, Tract No. BWG-5A, all in Union County, Georgia.

12. Approval of a membership appointment of Don Gowan to the Regional Resource Stewardship Council.

13. Approval of TVA's contribution to the TVA Retirement System for Fiscal Year 2006.

14. Approval of the 2005 edition of the Transmission Service Guidelines.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: September 21, 2005.
Maureen H. Dunn,
General Counsel and Secretary.

[FR Doc. 05-19231 Filed 9-22-05; 3:29 pm]

BILLING CODE 8120-08-P